ENVIRONMENTAL PROTECTION AGENCY

[ER-FRL-8590-1]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in FR dated April 6, 2008 (73 FR 19833).

Draft EISs

EIS No. 20080494, ERP No. D-AFS-K65349-AZ, Safford Recreation Residences Project, Proposes to Issue 88 New Special-Use-Permits for Occupancy and Use of Recreation Residence, Safford Ranger District, Coronado National Forest, Graham County, AZ.

Summary: EPA does not object to the proposed project. Rating LO.

Final EISs

EIS No. 20080416, ERP No. F-BLM-L65541-OR, Western Oregon Bureau of Land Management Districts of Salem, Eugene, Roseburg, Coos Bay, and Medford Districts, and the Klamath Falls Resource Area of the Lakeview District, Revision of the Resource Management Plans, Implementation, OR.

Summary: While EPA supports changes made that addressed our comments, we continue to have environmental concerns about the potential impacts from reduced levels of protection of watersheds that provide drinking water and conservation habitat for salmon. EPA also recommends adoption of an effectiveness monitoring plan to help guide adaptive management.

EIS No. 20080437, ERP No. F-NPS-L65547-WA, San Juan Island National Historical Park, General Management Plan, Implementation, WA.

Summary: EPA supports the long-term strategy to protect coastal waters; however, we continue to have environmental concerns about the ability of the plan to protect surface water resources.

EIS No. 20080499, ERP No. F-NPS-D65038-MD, White-Tailed Deer Management Plan, Preferred Alternative is Alternative C, Implementation, Catocin Mountain Park, Frederick and Washington Counties, MD.

Summary: EPA does not object to the proposed project.

EIS No. 20090009, ERP No. F-AFS-L65555-WA, Republic Ranger Station Excess Residence Sale Project, Proposes to Sell a 0.72 Acre Parcel of Land with a Residential Building, Republic Ranger District, Colville National Forest, Ferry County, WA.

Summary: No formal comments were sent to the preparing agency.

EIS No. 20080443, ERP No. FS-BLM-J02039-MT, Montana Statewide Oil and Gas, Development Alternative for Coal Bed Natural Gas Production and Amendment of the Powder River and Billings Resource Management Plans, Additional Information Three New Alternatives, Implementation, U.S. Army COE Section 404 Permit, NPDES Permit, Several Cos, MT.

Summary: The Final SEIS addressed many of EPA's concerns regarding air quality and water quality. However, we continue to have environmental concerns about potential impacts from water discharges and water quality, and recommend increased opportunities for stakeholder involvement in air quality mitigation and monitoring.

Dated: January 27, 2009.
Robert W. Hargrove,
Director, NEPA Compliance Division, Office of Federal Activities.

[FR Doc. E9-2042 Filed 1-29-09; 8:45 am]

BILLING CODE 6560-50-P